ENVIRONMENTAL PROTECTION AGENCY

[FRL-6529-6]

Access to Confidential Business Information by Hazmed

AGENCY: Environmental Protection Agency (EPA).

ACTION: Notice of Access to Data and Request for Comments.

SUMMARY: EPA will authorize its contractor, HAZMED to access confidential business information (CBI) which has been submitted to EPA under the authority of all sections of the Resource Conservation and Recovery Act (RCRA) of 1976, as amended. EPA has issued regulations (40 CFR Part 2, Subpart B) that outline business confidentiality provisions for the Agency and require all EPA Offices that receive information designated by the submitter as CBI to abide by these provisions. HAZMED will provide support to the Office of Solid Waste (OSW) in operating the RCRA CBI Center (CBIC), a secure storage areas that contains all records/documents that are received by OSW with a claim of business confidentiality.

DATES: Access to confidential data submitted to EPA will occur no sooner than February 7, 2000.

ADDRESSES: Comments should be sent to Regina Magbie, Document Control Officer, Office of Solid Waste (5305W), U.S. Environmental Protection Agency, 1200 Pennsylvania Avenue, N.W., Washington, DC 20460. Comments should be identified as “Access to Confidential Data.”

FOR FURTHER INFORMATION CONTACT: Regina Magbie, Document Control Officer, Office of Solid Waste (5305W), U.S. Environmental Protection Agency, 1200 Pennsylvania Avenue, N.W., Washington, DC 20460, 703-308-7909.

SUPPLEMENTARY INFORMATION:

1. Access to Confidential Business Information

Under EPA Contract No. OW-0502-NAWW, HAZMED will assist the Information Management Branch, within the Communications, Information, and Resources Management Division, of the Office of Solid Waste (OSW) in operating the RCRA Confidential Business Information Center (CBIC). OSW collects data from industry to support the RCRA hazardous waste regulatory program. Some of the data collected from industry are claimed by industry to contain trade secrets or CBI. In accordance with the provisions of 40 CFR Part 2, Subpart B, OSW has established policies and procedures for handling information collected from industry, under the authority of RCRA, including RCRA Confidential Business Information Security Manuals. HAZMED shall protect from unauthorized disclosure all information designated as confidential and shall abide by all RCRA CBI requirements, including procedures outlined in the RCRA CBI Security Manual. HAZMED will also provide data base management support to the RCRA CBIC document tracking system.

The U.S. Environmental Protection Agency has issued regulations (40 CFR Part 2, Subpart B) that outlines business confidentiality provisions for the Agency and require all EPA Offices that receive information designated by the submitter as CBI to abide by these provisions. HAZMED will be authorized to have access to RCRA CBI under the EPA “Contractor Requirements for the Control and Security of RCRA Confidential Business Information Security Manual.”

EPA is issuing this notice to inform all submitters of information under all sections of RCRA that EPA will provide HAZMED access to the CBI records located in the RCRA CBIC. Access to RCRA CBI under this contract will take place at EPA Headquarters only. Contractor personnel will be required to sign non-disclosure agreements and will be briefed on appropriate security procedures before they are permitted access to confidential information.

Dated: January 11, 2000.
Elizabeth A. Cotsworth,
Director, Office of Solid Waste.

[FR Doc. 00-1836 Filed 1-25-00; 8:45 am]

BILLING CODE 6560-50-M